DEPARTMENT OF HOMELAND SECURITY

Coast Guard

33 CFR Part 165

[CGD07-03-147]

RIN 1625-AA11

Regulated Navigation Area: Savannah River, Savannah, GA

AGENCY: Coast Guard, DHS.

ACTION: Notice of proposed rulemaking.

SUMMARY: The Coast Guard proposes to change the regulated navigation area to improve vessel traffic flow on the Savannah River during Liquid Natural Gas (LNG) tankship transits. Under the current regulation, vessels greater than 1600 gross tons are not permitted within the regulated area during LNG tankship transits without the express permission of the Captain of the Port. This proposed rule would allow all vessels greater than 1600 gross tons to transit the area during LNG tankship transits provided they come no closer than 2 nautical miles from the LNG vessel without specific authorization from the Captain of the Port.

DATES: Comments and related material must reach the Coast Guard on or before February 17, 2004.

ADDRESSES: You may mail comments and related material to Coast Guard Marine Safety Office Savannah, Juliette Gordon Low Federal Building, Suite 1017, 100 W. Oglethorpe, Savannah, Georgia 31401. Coast Guard Marine Safety Office Savannah maintains the public docket for this rulemaking. Comments and material received from the public, as well as documents indicated in this preamble as being available in the docket [CGD07-03-147], will become part of this docket and will be available for inspection or copying at Marine Safety Office Savannah, between 7:30 a.m. and 4:30 p.m., Monday through Friday, except Federal holidays.

FOR FURTHER INFORMATION CONTACT: Lieutenant Commander Lawrence Greene, at the Marine Safety Office Savannah; phone (912) 652-4353 extension 205.

SUPPLEMENTARY INFORMATION:

Request for Comments

We encourage you to participate in this rulemaking by submitting comments and related material. If you do so, please include your name and address, identify the docket number for this rulemaking [CGD07-03-147], indicate the specific section of this document to which each comment applies, and give the reason for each comment. Please submit all comments and related material in an unbound format, no larger than 8½ by 11 inches, suitable for copying. If you would like to know they reached us, please enclose a stamped, self-addressed postcard or envelope. We will consider all comments and material received during the comment period. We may change this proposed rule in view of them.

Public Meeting

We do not plan to hold a public meeting. But you may submit a request for a meeting by writing to MSO Savannah (see ADDRESSES) explaining why one would be beneficial. If we determine that one would aid this rulemaking, we will hold one at the time and place announced by a later notice in the Federal Register.

Background and Purpose

The port of Savannah is currently receiving Liquid Natural Gas (LNG) tankships, ranging from two to eight vessels per month, at the Southern LNG Elba Island facility. The Coast Guard currently has a regulated navigation area (RNA) in effect for LNG tankship transits which restricts vessel movement from Fort Jackson, which is upriver from the Elba Island LNG facility, and continues down the length of the Savannah River and extends offshore to the Savannah River Channel Entrance Sea Buoy. After nearly two years of experience with LNG tankship transits on the Savannah River, the Coast Guard is proposing to change the current RNA to allow vessels of 1600 gross tons or greater to enter the RNA during LNG tankship transits, provided they come no closer than 2 nautical miles to the LNG tankship. Vessels less than 1600 gross tons will still be permitted to transit the RNA during LNG tankship transits provided they maintain a safe distance from transiting LNG tankships. This proposed rule would potentially reduce port congestion during LNG transits and decrease delays to vessels, facilities and terminals on the Savannah River. A safe distance of two nautical miles for vessels 1600 gross tons and greater is necessary to protect the safety of life and property on the navigable waters from hazards associated with LNG activities.

Discussion of Proposed Rule

During the movement of an LNG tankship, other vessels of 1600 gross tons or greater would be required to maintain a safe distance of two nautical miles ahead of, or astern of, the transiting LNG tankship. All other requirements in the existing RNA remain unchanged. Except for a vessel that is moored at a marina, wharf, or pier, and remains moored, no vessel 1600 gross tons or greater could approach within two nautical miles of a Liquid Natural Gas (LNG) tankship that is underway within the RNA without the permission of the Captain of the Port (COTP). This proposed change would improve traffic flow on the Savannah River by limiting delays caused by the current requirement, which restricts vessels of 1600 gross tons or greater from entering any part of the RNA during the transit of an LNG tankship. The four nautical mile zone (two miles upriver and downriver) centered on a transiting LNG tankship will maintain public and maritime safety by minimizing the risk of collision, allision or grounding and the possible release of LNG.

Regulatory Evaluation

This rule is not a “significant regulatory action” under section 3(f) of Executive Order 12866, Regulatory Planning and Review, and does not require an assessment of potential costs and benefits under section 6(a)(3) of that Order. The Office of Management and Budget has not reviewed it under that Order. It is not significant under the regulatory policies and procedures of the Department of Homeland Security.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities. Delays for inbound and outbound traffic due to LNG transits will be minimized through this change and through pre-transit conferences between the pilots and the Coast Guard Captain of the Port. The RNA requirements are less burdensome for smaller vessels, which are more likely to be small entities.

If you think that your business, organization, or governmental jurisdiction qualifies as a small entity and that this rule would have significant economic impact on it, please submit a comment (see ADDRESSES) explaining why you think it qualifies and how and to what degree this rule would economically affect it.

Assistance for Small Entities

Under section 213(a) of the Small Business Regulatory Enforcement Fairness Act of 1996 (Pub. L. 104-121), we want to assist small entities in understanding this proposal so that they could better evaluate its effects on them and participate in the rulemaking. If the rule would affect your small business and you have questions concerning its provisions or options for compliance, please contact the person listed under FOR FURTHER INFORMATION CONTACT. Small businesses may also send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this proposed rule would not result in such an expenditure, we do discuss the effects of this rule elsewhere in this preamble

Taking of Private Property

This rule would not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that might disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We considered the environmental impact of this rule and concluded that, under figure 2-1, paragraph (34)(g), of Commandant Instruction M16475.1D, this rule is categorically excluded from further environmental documentation. A “Categorical Exclusion Determination” is available in the docket where indicated under ADDRESSES.

List of Subjects in 33 CFR Part 165

Harbors, Marine safety, Navigation (water), Reporting and record keeping requirements, Safety measures, Waterways.

For the reasons discussed in the preamble, the Coast Guard proposes to amend 33 CFR part 165 as follows:

PART 165—REGULATED NAVIGATION AREAS AND LIMITED ACCESS AREAS

1. The authority citation for part 165 continues to read as follows:

Authority: 33 U.S.C. 1226, 1231; 46 U.S.C. Chapter 701; 50 U.S.C. 191; 33 CFR 1.05-1(g), 6.04-1, 6.04-6, and 160.5; Pub. L. 107-295, 116 Stat. 2064; Department of Homeland Security Delegation No. 0170.1.

2. In § 165.756, paragraph (d)(1)(i) is revised to read as follows:

§ 165.756 Regulated Navigation Area; Savanah River, Georgia.

* * * * *

(d) * * *

(1) * * *

(i) Except for a vessel that is moored at a marina, wharf, or pier, and remains moored, no vessel 1600 gross tons or greater may approach within two nautical miles of an LNG tankship that is underway within the RNA without the permission of the Captain of the Port (COTP).

* * * * *

Dated: October 28, 2003.
H.E. Johnson,
Rear Admiral, U.S. Coast Guard, Commander, Seventh Coast Guard District.

[FR Doc. 03-28813 Filed 11-18-03; 8:45 am]

BILLING CODE 4910-15-P